NUCLEAR REGULATORY COMMISSION

Advisory Committee on Reactor Safeguards Subcommittee Meeting on Thermal-Hydraulic Phenomena; Notice of Meeting

The ACRS Subcommittee on Thermal-Hydraulic Phenomena will hold a meeting on June 22-23, 2004, Room T-2B1, 11545 Rockville Pike, Rockville, Maryland.

The agenda for the subject meeting shall be as follows:

Tuesday and Wednesday, June 22-23, 2004—8:30 a.m. until the conclusion of business.

The Subcommittee will discuss the ongoing staff review associated with GSI-191, Pressurized Water Reactor (PWR) Sump Performance. Representatives from the Nuclear Energy Institute (NEI) will present a description of their guidelines for use by licensees, the staff will present their initial assessment of guidelines, and the staff will present the results of the public comments on the draft Generic Letter regarding PWR sump blockage. The Office of Nuclear Regulatory Research is also expected to provide the initial results of experimental programs to investigate chemical phenomena in PWR sumps. The Subcommittee will gather information, analyze relevant issues and facts, and formulate proposed positions and actions, as appropriate, for deliberation by the full Committee.

Members of the public desiring to provide oral statements and/or written comments should notify the Designated Federal Official, Mr. Ralph Caruso (Telephone: 301-415-8065) five days prior to the meeting, if possible, so that appropriate arrangements can be made. Electronic recordings will be permitted.

Further information regarding this meeting can be obtained by contacting the Designated Federal Official between 7:30 a.m. and 4:15 p.m. (ET). Persons planning to attend this meeting are urged to contact the above named individual at least two working days prior to the meeting to be advised of any potential changes to the agenda.

Dated: June 3, 2004.
Ralph Caruso,
Acting Associate Director for Technical Support, ACRS/ACNW.

[FR Doc. 04-13252 Filed 6-10-04; 8:45 am]

BILLING CODE 7590-01-P